DEPARTMENT OF AGRICULTURE

Animal and Plant Health Inspection Service

[Docket No. 04-119-1]

National Animal Identification System; Public Meeting

AGENCY: Animal and Plant Health Inspection Service, USDA.

ACTION: Notice of public meeting.

SUMMARY: We are advising the public that the Veterinary Services program of the Animal and Plant Health Inspection Service, U.S. Department of Agriculture, will host a meeting to provide stakeholders in the Department's National Animal Identification System (NAIS), particularly manufacturers and distributors of animal identification devices and technologies, with an opportunity to offer comments on the administration of animal identification numbers under the NAIS. Specifically, the session will focus on the anticipated roles and requirements for individuals, organizations, and companies that wish to become authorized animal identification number managers or distributors of approved animal identification devices.

DATES: The public meeting will be held Friday, November 19, 2004, from 9 a.m. to 3 p.m.

ADDRESSES: The public meeting will be held at the Kansas City Airport Marriott, 775 Brasilia Avenue, Kansas City, MO.

FOR FURTHER INFORMATION CONTACT: Mr. Neil Hammerschmidt, Animal Identification Officer, National Center for Animal Health Programs, VS, APHIS, 4700 River Road Unit 43, Riverdale, MD 20737-1231, (301) 734-5571.

SUPPLEMENTARY INFORMATION: On December 30, 2003, the Secretary of Agriculture announced that the U.S. Department of Agriculture (USDA) would expedite the implementation of a National Animal Identification System (NAIS) for all animal species after the discovery of bovine spongiform encephalopathy in a cow in Washington State. On April 27, 2004, following several months of development, the Secretary announced the framework for implementation of a NAIS designed to provide a unique identification number for agricultural premises and animals so that diseases can be more quickly contained and eradicated. The Secretary also announced that $18.8 million would be transferred from the Department's Commodity Credit Corporation to provide initial funding for the program during fiscal year (FY) 2004. The FY 2004 funding has been earmarked for the initial infrastructure development and implementation of the national system, but both private and public support will be required to make it fully operational. The Administration's proposed FY 2005 budget includes another $33 million for the effort.

The NAIS will be implemented in several phases over time. Currently, the registration of premises, i.e., the locations where livestock are raised or held, is the primary activity of the NAIS. The second phase will involve the identification of animals. Certain species, such as cattle, will require individual identification, which will be accomplished by attaching to the animal an approved identification tag or device bearing an animal identification number (AIN). The AIN may be cross-referenced or linked to other technologies (e.g., radio frequency identification, retinal image, DNA, etc.) to automate the collection of the animal's number or to verify the animal's identification. Other species, such as swine and poultry, typically move through the production chain in groups or lots. These animals may be eligible for identification as a group.

In order to facilitate the implementation of the NAIS, we are publishing an interim rule in the Rules and Regulations section of this issue of the Federal Register (APHIS Docket No. 04-052-1, “Livestock Identification; Use of Alternative Numbering Systems”) that, among other things, amended the regulations to recognize additional numbering systems for the identification of animals in interstate commerce and State/Federal/industry cooperative disease control and eradication programs and to redefine the numbering system to identify premises where animals are managed or held. The interim rule recognizes numbering systems for individual animals, as well as groups or lots of animals within the same production system. Use of the new numbering systems will not, however, be required as a result of the interim rule.

Various non-producer participants will be involved in administering the NAIS. One group of non-producer participants is the AIN managers, who will manufacture or provide distributors with approved identification devices or technologies containing the AIN. Another group is the AIN distributors, who will provide AIN tags or devices to premises that hold or manage livestock.

The design and development of an AIN management system will be initiated in the near future. This system will require a method to approve entities to become authorized AIN managers and distributors and to evaluate performance. In addition, the system will need a method for the allocation and distribution of AINs and the approval of official animal identification devices.

For implementation to be successful, it is imperative that we share our plans for the AIN management system with potential AIN managers and distributors and provide a forum for them to present their views. Therefore, we plan to conduct a public meeting on Friday, November 19, 2004, at the Kansas City Airport Marriott, Kansas City, MO, for industry stakeholders, in particular those that manufacture and/or distribute animal identification devices. The focus of the session will be on the anticipated roles and responsibilities of AIN managers and distributors under the NAIS.

The meeting will be open to the public and is intended to provide a forum for the exchange of information regarding the administration of AINs under the NAIS. The meeting is not intended to serve as an opportunity for the submission of comments regarding the interim rule published in this issue of the Federal Register (APHIS Docket No. 04-052-1, “Livestock Identification; Use of Alternative Numbering Systems”). Persons wishing to submit comments on that interim rule should refer to the commenting instructions contained in that document.

Done in Washington, DC, this 2nd day of November 2004.
Kevin Shea,
Acting Administrator, Animal and Plant Health Inspection Service.

[FR Doc. E4-3052 Filed 11-5-04; 8:45 am]

BILLING CODE 3410-34-P